DEPARTMENT OF VETERANS AFFAIRS

[OMB Control No. 2900-0029]

Agency Information Collection Activity Under OMB Review: The PRA Submission Describes the Nature of the Information Collection and its Expected Cost and Burden; it Includes the Actual Data Collection Instrument

AGENCY: Loan Guaranty Service, Department of Veterans Affairs.

ACTION: Notice.

SUMMARY: In compliance with the Paperwork Reduction Act (PRA) of 1995, this notice announces that the Loan Guaranty Service, Department of Veterans Affairs, will submit the collection of information abstracted below to the Office of Management and Budget (OMB) for review and comment. The PRA submission describes the nature of the information collection and its expected cost and burden and it includes the actual data collection instrument.

DATES: Comments must be submitted on or before November 24, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0029” in any correspondence.

FOR FURTHER INFORMATION CONTACT: Cynthia Harvey-Pryor, Office of Quality, Privacy and Risk, Department of Veterans Affairs, 811 Vermont Avenue NW., Floor 5, Washington, DC 20420, (202) 461-5870 or email cynthia.harvey-pryor@va.gov. Please refer to “OMB Control No. 2900-0029” in any correspondence.

SUPPLEMENTARY INFORMATION:

Authority: 44 U.S.C. 3501-21.

Title: VA Form 26-6705, Offer to Purchase and Contract of Sale, VA Form 26-6705b and Fannie Mae (FNMA) Form 1003, Uniform Residential Loan Application, Credit Statement of Prospective Purchaser, and VA Form 26-6705d, Addendum to VA Form 26-6705 (Virginia).

OMB Control Number: 2900-0029.

Type of Review: Extension of a currently approved collection.

Abstract: Under the authority of 38 U.S.C. 3720(a)(5) and (6) the Department of Veterans Affairs (VA) acquires properties for sale to the general public utilizing a private Service Provider. The Service Provider utilizes private listings and sales brokers to sell VA properties.

The Federal Register Notice with a 60-day comment period soliciting comments on this collection of information was published at 82 FR 38761 on August 15, 2017, pages 38761 and 38762.

Affected Public: Individuals or Households.

Estimated Annual Burden: 17,458.

Estimated Average Burden per Respondent: 20 minutes and 5 minutes (average 15 minutes between the three forms).

Frequency of Response: One time.

Estimated Number of Respondents: 53,500.

By direction of the Secretary.
Cynthia Harvey-Pryor,
Department Clearance Officer, Office of Quality, Privacy, and Risk, Department of Veterans Affairs.

[FR Doc. 2017-23136 Filed 10-24-17; 8:45 am]

BILLING CODE 8320-01-P